DEPARTMENT OF JUSTICE

Notice of Lodging of Consent Decree Under The Clean Air Act

Notice is hereby given that on January 13, 2011, a proposed Consent Decree in United States et al. v. Northern Indiana Public Service Co., Civil Action No. 2:11-cv-016, was filed with the United States District Court for the Northern District of Indiana.

In this action, the United States and Indiana sought penalties and injunctive relief for the Defendants' violations of the Clean Air Act, 42 U.S.C. 7401 et seq., and the Indiana Code 13-13-5-1 and 13-13-5-2, at its four coal-fired power plants in Chesterton, Michigan City, Wheatfield, and Gary, Indiana.

To resolve the United States' and Indiana's claims, the Defendants will pay a penalty of $3.5 million, and will install or upgrade air emission controls at three of its plants, and cease operations at its fourth plant in Gary, Indiana. In addition, the Defendant will perform environmental mitigation projects costing at least $9.5 million.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to either: United States et al. v. Northern Indiana Public Service Co., Civil Action No. 2:11-cv-016, or D.J. Ref. 90-5-2-1-08417. The Consent Decree may be examined at the Office of the United States Attorney, Northern District of Indiana, 5400 Federal Plaza, Suite 1500, Hammond, Indiana 46320, and at the United States Environmental Protection Agency, 77 W. Jackson Blvd., Chicago, Illinois 60604. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $26.00 (25 cents per page reproduction cost), or, if by e-mail or fax, forward a check in the applicable amount to the Consent Decree Library at the stated address.

Maureen Katz,
Assistant Chief, Environmental Enforcement Section, Environment and Natural Resources Division.

[FR Doc. 2011-1107 Filed 1-19-11; 8:45 am]

BILLING CODE 4410-15-P